DEPARTMENT OF ENERGY

Federal Energy Regulatory Commission

Combined Notice of Filings #1

Take notice that the Commission received the following exempt wholesale generator filings:

Docket Numbers: EG21-88-000.

Applicants: Coso Battery Storage, LLC.

Description: Self-Certification of EG or FC of Coso Battery Storage, LLC.

Filed Date: 2/12/21.

Accession Number: 20210212-5103.

Comments Due: 5 p.m. ET 3/5/21.

Take notice that the Commission received the following electric rate filings:

Docket Numbers: ER20-687-002.

Applicants: Tri-State Generation and Transmission As.

Description: Compliance filing: Compliance Filing to be effective 2/25/2020.

Filed Date: 2/12/21.

Accession Number: 20210212-5126.

Comments Due: 5 p.m. ET 3/5/21.

Docket Numbers: ER21-136-001.

Applicants: Flat Ridge 3 Wind Energy, LLC.

Description: Compliance filing: Flat Ridge 3 Compliance Filing to be effective 12/1/2020.

Filed Date: 2/11/21.

Accession Number: 20210211-5178.

Comments Due: 5 p.m. ET 3/4/21.

Docket Numbers: ER21-1107-000.

Applicants: PJM Interconnection, L.L.C.

Description: § 205(d) Rate Filing: Original WMPA, Service Agreement No. 5978; Queue No. AB2-049 to be effective 8/10/2020.

Filed Date: 2/11/21.

Accession Number: 20210211-5182.

Comments Due: 5 p.m. ET 3/4/21.

Docket Numbers: ER21-1108-000.

Applicants: PJM Interconnection, L.L.C.

Description: § 205(d) Rate Filing: Amendment to PJM SA No. 2824 (Davis-Besse) (amend) to be effective 6/1/2011.

Filed Date: 2/12/21.

Accession Number: 20210212-5019.

Comments Due: 5 p.m. ET 3/5/21.

Docket Numbers: ER21-1109-000.

Applicants: ISO New England Inc.

Description: ISO New England Inc. submits Fourth Quarter Capital Budget Report for 2020.

Filed Date: 2/11/21.

Accession Number: 20210211-5210.

Comments Due: 5 p.m. ET 3/4/21.

Docket Numbers: ER21-1110-000.

Applicants: PJM Interconnection, L.L.C.

Description: § 205(d) Rate Filing: Amendment to Service Agreement No. 3563; Queue Position W4-004B_AT11 (amend) to be effective 4/26/2013.

Filed Date: 2/12/21.

Accession Number: 20210212-5030.

Comments Due: 5 p.m. ET 3/5/21.

Docket Numbers: ER21-1111-000.

Applicants: Alabama Power Company.

Description: § 205(d) Rate Filing: Southeast EEM Agreement Filing to be effective 5/13/2021.

Filed Date: 2/12/21.

Accession Number: 20210212-5033.

Comments Due: 5 p.m. ET 3/5/21.

Docket Numbers: ER21-1113-000.

Applicants: PJM Interconnection, L.L.C.

Description: § 205(d) Rate Filing: Amendment to SA No. 2863; Queue No. U3-029 & U3-030 (amend) to be effective 4/6/2011.

Filed Date: 2/12/21.

Accession Number: 20210212-5054.

Comments Due: 5 p.m. ET 3/5/21.

Docket Numbers: ER21-1114-000.

Applicants: Louisville Gas and Electric Company.

Description: § 205(d) Rate Filing: LGE Concurrence to Southeast Energy Exchange Market Agreement to be effective 5/13/2021.

Filed Date: 2/12/21.

Accession Number: 20210212-5055.

Comments Due: 5 p.m. ET 3/5/21.

Docket Numbers: ER21-1115-000.

Applicants: Duke Energy Progress, LLC, Duke Energy Carolinas, LLC.

Description: § 205(d) Rate Filing: Revisions to Joint OATT to Implement NFEETS to be effective 12/31/9998.

Filed Date: 2/12/21.

Accession Number: 20210212-5056.

Comments Due: 5 p.m. ET 3/5/21.

Docket Numbers: ER21-1116-000.

Applicants: Duke Energy Carolinas, LLC.

Description: § 205(d) Rate Filing: DEC—Southeast Energy Exchange Market Agreement Concurrence to be effective 5/13/2021.

Filed Date: 2/12/21.

Accession Number: 20210212-5061.

Comments Due: 5 p.m. ET 3/5/21.

Docket Numbers: ER21-1117-000.

Applicants: Duke Energy Progress, LLC.

Description: § 205(d) Rate Filing: DEP—Southeast Energy Exchange Market Agreement Concurrence to be effective 5/13/2021.

Filed Date: 2/12/21.

Accession Number: 20210212-5067.

Comments Due: 5 p.m. ET 3/5/21.

Docket Numbers: ER21-1118-000.

Applicants: Louisville Gas and Electric Company.

Description: § 205(d) Rate Filing: Revisions to LG&E/KU Joint OATT Transmission Tariff to be effective 12/31/9998.

Filed Date: 2/12/21.

Accession Number: 20210212-5072.

Comments Due: 5 p.m. ET 3/5/21.

Docket Numbers: ER21-1119-000.

Applicants: Georgia Power Company.

Description: § 205(d) Rate Filing: Southeast EEM Agreement Filing to be effective 5/13/2021.

Filed Date: 2/12/21.

Accession Number: 20210212-5078.

Comments Due: 5 p.m. ET 3/5/21.

Docket Numbers: ER21-1120-000.

Applicants: Kentucky Utilities Company.

Description: § 205(d) Rate Filing: KU Concurrence to Southeast Energy Exchange Market Agreement to be effective 5/13/2021.

Filed Date: 2/12/21.

Accession Number: 20210212-5080.

Comments Due: 5 p.m. ET 3/5/21.

Docket Numbers: ER21-1121-000.

Applicants: Mississippi Power Company.

Description: § 205(d) Rate Filing: Southeast EEM Agreement Filing to be effective 5/13/2021.

Filed Date: 2/12/21.

Accession Number: 20210212-5081.

Comments Due: 5 p.m. ET 3/5/21.

Docket Numbers: ER21-1122-000.

Applicants: Louisville Gas and Electric Company.

Description: § 205(d) Rate Filing: EKPC Third Amended Interconnection Agreement to be effective 2/8/2021.

Filed Date: 2/12/21.

Accession Number: 20210212-5090.

Comments Due: 5 p.m. ET 3/5/21.

Docket Numbers: ER21-1123-000.

Applicants: Arizona Public Service Company.

Description: § 205(d) Rate Filing: Service Agreement No. 380, Amendment No. 1 to be effective 1/20/2021.

Filed Date: 2/12/21.

Accession Number: 20210212-5093.

Comments Due: 5 p.m. ET 3/5/21.

Docket Numbers: ER21-1124-000.

Applicants: Arizona Public Service Company.

Description: § 205(d) Rate Filing: Service Agreement No. 386—AES E&P Agreement to be effective 1/27/2021.

Filed Date: 2/12/21.

Accession Number: 20210212-5095.

Comments Due: 5 p.m. ET 3/5/21.

Docket Numbers: ER21-1125-000.

Applicants: Alabama Power Company.

Description: § 205(d) Rate Filing: OATT Amendments relating to Southeast EEM Agreement to be effective 12/31/9998.

Filed Date: 2/12/21.

Accession Number: 20210212-5096.

Comments Due: 5 p.m. ET 3/5/21.

Docket Numbers: ER21-1126-000.

Applicants: PJM Interconnection, L.L.C.

Description: § 205(d) Rate Filing: Original WMPA, Service Agreement No. 5977; Queue Number AF2-161 to be effective 1/13/2021.

Filed Date: 2/12/21.

Accession Number: 20210212-5104.

Comments Due: 5 p.m. ET 3/5/21.

Docket Numbers: ER21-1127-000.

Applicants: Nevada Power Company.

Description: § 205(d) Rate Filing: Rate Schedule No. 139 Joint Dispatch Agreement Amendment to be effective 4/14/2021.

Filed Date: 2/12/21.

Accession Number: 20210212-5105.

Comments Due: 5 p.m. ET 3/5/21.

Docket Numbers: ER21-1128-000.

Applicants: Dominion Energy South Carolina, Inc.

Description: § 205(d) Rate Filing: Attachment P and P-1—Non-Firm Energy Exchange Transmission Service to be effective 12/31/9998.

Filed Date: 2/12/21.

Accession Number: 20210212-5106.

Comments Due: 5 p.m. ET 3/5/21.

Docket Numbers: ER21-1129-000.

Applicants: Polaris Power Services LLC.

Description: Baseline eTariff Filing: Polaris Power Services LLC Market-Based Rate Tariff to be effective 2/13/2021.

Filed Date: 2/12/21.

Accession Number: 20210212-5110.

Comments Due: 5 p.m. ET 3/5/21.

Docket Numbers: ER21-1130-000.

Applicants: ISO New England Inc., Central Maine Power Company, The United Illuminating Company, Maine Electric Power Company, Inc., Versant Power, Eversource Energy Service Company (as agent), The Connecticut Light and Power Company, NSTAR Electric Company, Public Service Company of New Hampshire, Green Mountain Power Corporation, New England Power Company, New Hampshire Transmission, LLC, Unitil Energy Systems, Inc., Fitchburg Gas and Electric Light Company

Description: Compliance filing: New England Transmission Owners; Supplemental Order 864 Comp. Filing ER20-2572 to be effective 1/1/2020.

Filed Date: 2/12/21.

Accession Number: 20210212-5123.

Comments Due: 5 p.m. ET 3/5/21.

Docket Numbers: ER21-1131-000.

Applicants: Antelope Expansion 3A, LLC.

Description: § 205(d) Rate Filing: Antelope Expansion 3A, LLC MISA Certificate of Concurrence to be effective 3/1/2021.

Filed Date: 2/12/21.

Accession Number: 20210212-5127.

Comments Due: 5 p.m. ET 3/5/21.

Docket Numbers: ER21-1132-000.

Applicants: Antelope Expansion 3B, LLC.

Description: § 205(d) Rate Filing: Antelope Expansion 3B, LLC MISA Certificate of Concurrence to be effective 3/1/2021.

Filed Date: 2/12/21.

Accession Number: 20210212-5131.

Comments Due: 5 p.m. ET 3/5/21.

Docket Numbers: ER21-1133-000.

Applicants: Hummel Station, LLC.

Description: § 205(d) Rate Filing: Notice of Succession and Revisions to MBR Tariff and Request for Waiver to be effective 2/13/2021.

Filed Date: 2/12/21.

Accession Number: 20210212-5149.

Comments Due: 5 p.m. ET 3/5/21.

Docket Numbers: ER21-1134-000.

Applicants: Hummel Station, LLC.

Description: § 205(d) Rate Filing: Notice of Succession &#38; Revisions to Reactive Service Tariff &#38; Request fo to be effective 1/13/2021.

Filed Date: 2/12/21.

Accession Number: 20210212-5150.

Comments Due: 5 p.m. ET 3/5/21.

Docket Numbers: ER21-1135-000.

Applicants: Pacific Gas and Electric Company.

Description: § 205(d) Rate Filing: WPA For CDWR Delta Pumping Plant TO SA 275 to be effective 2/15/2021.

Filed Date: 2/12/21.

Accession Number: 20210212-5158.

Comments Due: 5 p.m. ET 3/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2021.
Nathaniel J. Davis, Sr.,
Deputy Secretary.

[FR Doc. 2021-03378 Filed 2-18-21; 8:45 am]

BILLING CODE 6717-01-P